DEPARTMENT OF TRANSPORTATION

Coast Guard

33 CFR Part 165

[CGDO9-01-049]

Safety Zone: Captain of the Port Detroit Zone

AGENCY: Coast Guard, DOT.

ACTION: Notice of implementation.

SUMMARY: The Coast Guard is implementing safety zones for annual fireworks displays in the Captain of the Port Detroit Zone during July 2001. This action is necessary to provide for the safety of life and property on navigable waters during these events. These zones will restrict vessel traffic from a portion of the Captain of the Port Detroit Zone.

DATES: 33 CFR 165.907 is implemented from 12:01 a.m. (EST) on July 1, 2001, to 11:59 p.m. (EST) on July 31, 2001.

FOR FURTHER INFORMATION CONTACT: Ensign Brandon Sullivan, U.S. Coast Guard Marine Safety Office Detroit, (313) 568-9580.

SUPPLEMENTARY INFORMATION: The Coast Guard is implementing the permanent safety zones in 33 CFR 165.907 (published May 21, 2001, in the Federal Register, 66 FR 27868), for fireworks displays in the Captain of the Port Detroit Zone during July 2001. The following safety zones are in effect for fireworks displays occurring in the month of July 2001:

(1) Lake Erie Metro Park Fireworks. Location: The waters off the Brownstown Wave Pool area, Lake Erie bounded by the arc of a circle with a 300-yard radius with its center in approximate position 42°03′ N, 083°11′ W, on July 1, 2001, from 10 p.m. until 11 p.m.

(2) Port Sanilac Fireworks. Port Sanilac, MI. Location: The waters off the South Harbor Breakwall, Lake Huron bounded by the arc of a circle with a 300-yard radius with its center in approximate position 43°25′ N, 082°31′ W on July 4, 2001, from 9:30 p.m. until 11 p.m.

(3) Port Huron 4th of July Fireworks, Port Huron, MI. Location: All waters of the Black River within a 300-yard radius of the fireworks barge in approximate position 42°58′ N, 082°25′ W about 300 yards east of 223 Huron Ave., in the Black River on July 1, 2001, from 10 p.m. until 11 p.m.

(4) Caseville Fireworks, Caseville, MI. Location: The waters off the Caseville breakwall, Saginaw River bounded by the arc of a circle with a 300-yard radius with its center in approximate position 43°55′ N, 083°17′ W, on July 3, 2001, from 10 p.m. until 11 p.m.

(5) Algonac Pickerel Tournament Fireworks, Algonac, MI. Location: All waters of the St. Clair River within a 300-yard radius of the fireworks barge in approximate position 42°37′ N, 082°32′ W, between Algonac and Russell Island, St. Clair River—North Channel, on July 3, 2001, from 9:30 p.m. until 10:30 p.m.

(6) Grosse Pointe Yacht Club 4th of July Fireworks, Grosse Pointe Shores, MI. Location: All waters of Lake St. Clair within a 300-yard radius of the fireworks barge in approximate position 42°25′ N, 082°52′ W, about 400 yards east of the Grosse Pointe Yacht Club seawall, Lake St. Clair on July 4, 2001, from 9:30 p.m. until 10:30 p.m.

(7) City of St. Clair Fireworks. Location: The waters off St. Clair City Park, St. Clair River bounded by the arc of a circle with a 300-yard radius with its center in approximate position 42°49′ N, 082°29′ W, on July 4, 2001, from 9:30 p.m. until 11:30 p.m.

(8) Tawas City 4th of July Fireworks, Tawas, MI. Location: The waters off the Tawas City Pier, Lake Huron bounded by the arc of a circle with a 300-yard radius with its center in approximate position 44°13′ N, 083°30′ W, on July 4, 2001 from 9 p.m. until 10 p.m.

(9) Lexington Independence Festival Fireworks, Lexington, MI. Location: All waters of Lake Huron within a 300-yard radius of the fireworks barge in approximate position 43°13′ N, 082°30′ W, about 300 yards east of the Lexington breakwall, Lake Huron, on July 1, 2001, from 7 p.m. until 11:59 p.m.

(10) Trenton Fireworks Display, Trenton, MI. Location: All waters of the Trenton Channel within a 300-yard radius of the fireworks barge in approximate position 42°09′ N, 083°10′ W, about 200 yards east of Trenton, in the Trenton Channel on July 4, 2001, from 10 p.m. until 11 p.m.

(11) City of Ecorse Water Festival Fireworks, Ecorse, MI. Location: All waters of the Ecorse Channel within a 300-yard radius of the fireworks barge in approximate position 42°14′ N, 083°09′ W, at the northern end of Mud Island, Ecorse, on July 4, 2001, from 10 p.m. until 11 p.m.

(12) Oscoda Township Fireworks. Location: The waters off the DNR Boat Launch at the mouth of the Ausable River bounded by the arc of a circle with a 300-yard radius with its center in approximate position 44°19′ N, 083°25′ W, on July 4, 2001, from 9 p.m. until 11 p.m.

(13) Port Austin Fireworks. Location: The waters off the Port Austin Breakwall on Lake Huron, bounded by the arc of a circle with a 300-yard radius with its center in approximate position 43°03′N, 082°40′ W, on July 4, 2001, from 10 p.m. until 11 p.m.

(14) Belle Maer Harbor 4th of July Fireworks, Harrison Township, MI. Location: All waters of Lake St. Clair within a 300-yard radius of the fireworks barge in approximate position 42°36′ N, 082°47′ W, about 400 yards east of Belle Maer Harbor, Lake St. Clair—Anchor Bay on July 4, 2001, from 10 p.m. until 11 p.m.

In order to ensure the safety of spectators and transiting vessels, these safety zones will be in effect for the duration of their corresponding event. Vessels may not enter a safety zone without permission from Captain of the Port Detroit Zone. If you would like permission, contact the person listed in FOR FURTHER INFORMATION CONTACT. Spectator vessels may anchor outside the safety zone but are cautioned not to block a navigable channel.

Dated: June 13, 2001.
S.P. Garrity,
Commander, U.S. Coast Guard, Captain of the Port Detroit.

[FR Doc. 01-15554 Filed 6-19-01; 8:45 am]

BILLING CODE 4910-15-P